DEPARTMENT OF THE INTERIOR

National Park Service

Boundary Revision at George Washington Carver National Monument

AGENCY: National Park Service, Interior.

ACTION: Announcement of boundary revision.

SUMMARY: This notice announces a revision of the boundary of George Washington Carver National Monument, Newton County, Missouri, to include adjacent land donated by the Carver Birthplace Association. The boundary revision is authorized by the Act of July 14, 1943, 57 Stat. 563, (16 U.S.C. 450aa).

FOR FURTHER INFORMATION CONTACT: James R. Heaney, Superintendent, George Washington Carver National Monument, 5646 Carver Road, Diamond, Missouri 64840, or by telephone: 417-325-4151.

SUPPLEMENTARY INFORMATION: Notice is hereby provided that the boundaries of George Washington Carver National Monument are revised. This revision, effective upon publication of this notice, includes certain adjacent real property situated in Newton County, Missouri legally described as: Thirty acres squarely off the South side of the Southwest Quarter of the Southeast Quarter (SW¼ SE¼) of Section 7, Township 26 North, Range 31 West, 5th P.M., Newton County, Missouri.

Dated: April 21, 2010.
Ernest Quintana,
Regional Director, Midwest Region, National Park Service.

[FR Doc. 2010-10329 Filed 5-3-10; 8:45 am]

BILLING CODE 4312-BB-P